DEPARTMENT OF HOMELAND SECURITY

[Docket No. DHS-2012-0009]

Critical Infrastructure Partnership Advisory Council (CIPAC)

AGENCY: National Protection and Programs Directorate, DHS.

ACTION: Notice of the CIPAC charter renewal.

SUMMARY: The Department of Homeland Security (DHS) announced the establishment of the Critical Infrastructure Partnership Advisory Council (CIPAC) by notice published in the Federal Register on March 24, 2006. This committee was exempted from the Federal Advisory Committee Act (FACA) under the authority of the Secretary of the Department of Homeland Security in section 871 of the Homeland Security Act of 2002, 6 U.S.C. 451(a); that notice identified the purpose of CIPAC as well as its membership. This notice provides (1) that the Secretary has determined that CIPAC and its exemption from FACA continues to serve the purpose for which it was established and has renewed its charter, which is required every two years; (2) instructions on how the public can obtain the CIPAC membership roster and other information on the Council; and (3) information on the membership within CIPAC of the members of the State, Local, Tribal, and Territorial Government Coordinating Council (SLTTGCC).

FOR FURTHER INFORMATION CONTACT: Larry May, Designated Federal Officer, Critical Infrastructure Partnership Advisory Council, Department of Homeland Security, National Protection and Programs Directorate, 245 Murray Lane, Mail Stop 0607, Arlington, VA 20598-0607.

SUPPLEMENTARY INFORMATION: Notice of CIPAC Renewal: The Secretary of Homeland Security extended the CIPAC charter on March 19, 2012, for a period of two years. The current CIPAC charter reflecting the Secretary's action is available on the CIPAC Web site (http://www.dhs.gov/cipac).

Purpose and Activities: CIPAC facilitates interaction between government officials and representatives of the community of owners and operators for each of the critical infrastructure sectors defined by Homeland Security Presidential Directive 7 (HSPD-7) and identified in the National Infrastructure Protection Plan. The scope of activities covered by CIPAC includes planning; coordinating among government and critical infrastructure owner/operator security partners; implementing security program initiatives; conducting operational activities related to critical infrastructure protection security measures, incident response, recovery, infrastructure resilience; reconstituting critical infrastructure assets and systems for both man-made and naturally occurring events; and sharing threat, vulnerability, risk mitigation, and infrastructure continuity information.

Organizational Structure: CIPAC members are organized into the eighteen HSPD-7 critical infrastructure sectors. A Sector Coordinating Council (SCC) generally exists within each sector containing critical infrastructure owner/operators. The SCC includes these critical infrastructure owners/operators or their representative trade associations. Each sector also has a Government Coordinating Council (GCC) whose membership includes a lead Federal agency, defined as the Sector Specific Agency, and all relevant Federal, state, local, tribal, and/or territorial government agencies (or their representative bodies) whose mission interests also involve the scope of the CIPAC activities for that particular sector.

Membership: CIPAC membership includes: (1) Critical infrastructure owner/operator members of an SCC; (2) trade association members of an SCC representing the interests of critical infrastructure owner/operators; (3) each sector's GCC; and (4) governmental officials who are part of DHS's SLTTGCC. The new charter also prohibits Federally registered lobbyists from representing SCC members at CIPAC meetings. This requirement complies with a Presidential Policy Memorandum, “Lobbyists on Agency Boards and Commissions,” issued on June 18, 2010.

CIPAC Membership Roster and Council Information: The current roster of CIPAC membership is published on the CIPAC Web site (http://www.dhs.gov/cipac) and is updated as CIPAC membership changes. Members of the public may visit the CIPAC Web site at any time to obtain current CIPAC membership as well as the current and historic list of CIPAC meetings and agendas.

Dated: May 22, 2012.
Larry May,
Designated Federal Officer for the CIPAC.

[FR Doc. 2012-13234 Filed 5-31-12; 8:45 am]

BILLING CODE 9110-9P-P